DEPARTMENT OF THE TREASURY

Office of Thrift Supervision

34 Disclosures

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before May 10, 2010.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You can request additional information about this proposed information collection from Gary Jeffers (202) 906-6457, Office of Thrift Supervision, 1700 G Street, NW., Washington, DC 20552.

SUPPLEMENTARY INFORMATION:

OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: '34 Disclosures.

OMB Number: 1550-0019.

Form Numbers: Forms 8A, 8K, 10, 10K, 12b-25, 25, 10-Q, 4, 3, 5, 15, Schedules 14A, 14C, TO, 13D, 13G, 13E-3, G-FIN, G-FINW, G-FIN-4, G-FIN-5, and Annual Report.

Regulation requirement: 12 CFR 563d.

Description: OTS collects certain periodic information on forms adopted by the U.S. Securities and Exchange Commission (SEC), pursuant to the Securities Exchange Act of 1934 (the Exchange Act). The information is collected annually, quarterly, and at other times as required by certain events. The forms are required to be filed with OTS by certain publicly held savings associations and related persons, pursuant to section 12(i) of the Exchange Act. OTS administers the reporting requirements and forms of the SEC for such persons. This provision applies to approximately 6 Federal stock institutions registered with OTS.

In addition, 12 CFR 552.10 requires that Federal stock associations not wholly owned by a holding company mail, within 90 days after the end of its fiscal year, an Annual Report to each of its stockholders entitled to vote at its annual meeting. The Annual Report shall contain financial statements identical to those required by the Exchange Act and Rule 14a-3 (17 CFR 240.14a-3 thereunder). This provision applies to approximately 26 Federal stock institutions chartered by OTS. Each affected association must send OTS a copy of its Annual Report, properly certified.

Type of Review: Extension of a currently approved collection.

Affected Public: Businesses or other for-profit; Individuals or households; Not-for-profit institutions; Farms; Federal Government; State, Local or Tribal Government.

Estimated Number of Respondents: 95.

Estimated Burden Hours per Responses: The response time for forms and schedules could range from 12 minutes to 141 hours and the Annual Report is estimated at 1,576 hours.

Estimated Frequency of Response: On occasion; Quarterly; Annual.

Estimated Total Burden: 26,183 hours.

Dated: March 3, 2010.
Ira L. Mills,
Paperwork Clearance Officer, Office of Chief Counsel, Office of Thrift Supervision.

[FR Doc. 2010-4977 Filed 3-8-10; 8:45 am]

BILLING CODE 6720-01-P